DEPARTMENT OF COMMERCE

International Trade Administration

[A-351-843, A-570-029, A-533-865, A-588-873, A-580-881, A-412-824]

Cold-Rolled Steel Flat Products From Brazil, China, India, Japan, Republic of Korea, and United Kingdom: Final Results of the Expedited Sunset Reviews of the Antidumping Duty Orders

AGENCY: Enforcement and Compliance, International Trade Administration, Department of Commerce.

SUMMARY: As a result of these expedited sunset reviews, the Department of Commerce (Commerce) finds that revocation of the antidumping duty (AD) orders on certain cold-rolled steel flat products (cold-rolled steel) from Brazil, China, India, Japan, Republic of Korea (Korea), and the United Kingdom would be likely to lead to continuation or recurrence of dumping as indicated in the “Final Results of Sunset Review” section of this notice.

DATES: Applicable October 5, 2021.

FOR FURTHER INFORMATION CONTACT: Reginald Anadio, Abdul Alnoor, or Thomas Hanna, AD/CVD Operations, Office IV, Enforcement and Compliance, International Trade Administration, U.S. Department of Commerce, 1401 Constitution Avenue NW, Washington, DC 20230; telephone: (202) 482-2000, (202) 482-4554, or (202) 482-0835, respectively.

SUPPLEMENTARY INFORMATION:

Background

On July 14 and September 20, 2016, Commerce published in the Federal Register the China and Japan Orders and the Brazil, India, Korea, and United Kingdom Orders, respectively (collectively, Orders).¹ On June 1, 2021, Commerce published the notice of initiation of the sunset reviews of the Orders pursuant to section 751(c) of the Tariff Act of 1930, as amended (the Act).² In accordance with 19 CFR 351.218(d)(1)(i) and (ii), Commerce received notices of intent to participate in these sunset reviews from Cleveland-Cliffs Inc.,³ Nucor Corporation, California Steel Industries,⁴ Steel Dynamics Inc., and United States Steel Corporation (collectively, the domestic interested parties) within 15 days after the date of publication of the Initiation Notice.⁵ The domestic interested parties claimed interested party status under section 771(9)(C) of the Act. Commerce received adequate substantive responses to the Initiation Notice from the domestic interested parties within the 30-day period specified in 19 CFR 351.218(d)(3)(i).⁶ Commerce did not receive a substantive response from any respondent interested party and no hearing was requested. On July 22, 2021, Commerce notified the U.S. International Trade Commission that it did not receive an adequate substantive response from any respondent interested party.⁷

¹ See Certain Cold-Rolled Steel Flat Products from Japan and the People's Republic of China: Antidumping Duty Orders, 81 FR 45956 (July 14, 2016) (China and Japan Orders); see also Certain Cold-Rolled Steel Flat Products from Brazil, India, the Republic of Korea, and the United Kingdom: Amended Final Affirmative Antidumping Determinations for Brazil and the United Kingdom and Antidumping Duty Orders, 81 FR 64432 (September 20, 2016) (Brazil, India, Korea, and United Kingdom Orders).

² See Initiation of Five-Year (Sunset) Review, 86 FR 29239 (June 1, 2021) (Initiation Notice).

³ Cleveland-Cliffs acquired AK Steel and the majority of the U.S. operations of Arcelor Mittal USA LLC, two firms that were among the domestic producing petitioners in the original investigations. See, e.g., Domestic Interested Parties' Letter, “First Five-Year (“Sunset”) Review of the Antidumping Order on Cold-Rolled Steel Flat Products from Brazil: Domestic Industry's Substantive Response to Notice of Initiation,” dated July 1, 2021.

⁴ California Steel Industries is a domestic interested party for all proceedings except for Brazil and Japan. See Domestic Interested Parties' Letters, “First Five-Year (“Sunset”) Review of the Antidumping Order on Cold-Rolled Steel Flat Products from Brazil: Domestic Industry's Substantive Response to Notice of Initiation,” dated July 1, 2021; see also “Cold-Rolled Steel Flat Products from the People's Republic of China: Substantive Response of the Domestic Interested Parties to Commerce's Notice of Initiation of Five-Year (“Sunset”) Reviews,” dated July 1, 2021; “First Five-Year (“Sunset”) Review of the Antidumping Order on Cold-Rolled Steel Flat Products from India: Domestic Industry's Substantive Response to Notice of Initiation,” dated July 1, 2021; “Cold-Rolled Steel Flat Products from Japan: Substantive Response of the Domestic Interested Parties to Commerce's Notice of Initiation of Five-Year (“Sunset”) Reviews,” dated July 1, 2021; “Certain Cold-Rolled Steel Flat Products from the Republic of Korea: Substantive Response to Notice of Initiation of Sunset Review,” dated July 1, 2021; and “Five-Year (“Sunset”) Review of Antidumping Duty Order On Cold-Rolled Flat Products From the United Kingdom: Domestic Industry Substantive Response,” dated July 1, 2021 (collectively, Substantive Responses).

⁵ See Cleveland-Cliffs Inc.'s Letter, “Five-Year (“Sunset”) Review of Antidumping Duty Order on Cold-Rolled Steel Flat Products from Brazil: Notice of Intent to Participate in Sunset Review,” dated June 14, 2021; see also United States Steel Corporation's Letter, “Five-Year (“Sunset”) Review of Antidumping Duty Order on Cold-Rolled Steel Flat Products from Brazil: Notice of Intent to Participate,” dated June 16, 2021; Steel Dynamics Inc.'s Letter, “Notice of Intent to Participate in the First Five-Year Review of the Antidumping Duty Order on Cold-Rolled Steel Flat Products from Brazil,” dated June 16, 2021; Nucor Corporation's Letter, “Certain Cold-Rolled Steel Flat Products from Brazil: Notice of Intent to Participate in Sunset Review,” dated June 16, 2021; Cleveland-Cliffs Inc.'s Letter, “Five-Year (“Sunset”) Review of Antidumping Duty Order on Cold-Rolled Steel Flat Products From China: Notice of Intent to Participate in Sunset Review,” dated June 14, 2021; United States Steel Corporation's Letter, “Five-Year (“Sunset”) Review of Antidumping and Countervailing Duty Orders on Cold-Rolled Steel Flat Products from China: Notice of Intent to Participate,” dated June 16, 2021; California Steel Industries' and Steel Dynamics Inc.'s Letter, “Notice of Intent to Participate in the First Five-Year Review of the Antidumping Duty Order on Cold-Rolled Steel Flat Products from the People's Republic of China,” dated June 16, 2021; Nucor Corporation's Letter, “Certain Cold-Rolled Steel Flat Products from the People's Republic of China: Notice of Intent to Participate in Sunset Review,” dated June 16, 2021; Cleveland-Cliffs Inc.'s Letter, “Five-Year (“Sunset”) Review of Antidumping Duty Order on Cold-Rolled Steel Flat Products From India: Notice of Intent to Participate in Sunset Review,” dated June 14, 2021; United States Steel Corporation's Letter, “Five-Year (“Sunset”) Review of Antidumping and Countervailing Duty Orders on Cold-Rolled Steel Flat Products from India: Notice of Intent to Participate,” dated June 16, 2021; California Steel Industries' and Steel Dynamics Inc.'s Letter, “Notice of Intent to Participate in the First Five-Year Review of the Antidumping Duty Order on Cold-Rolled Steel Flat Products from India,” dated June 16, 2021; Nucor Corporation's Letter, “Certain Cold-Rolled Steel Flat Products from India: Notice of Intent to Participate in Sunset Review,” dated June 16, 2021; Cleveland-Cliffs Inc.'s Letter, “Five-Year (“Sunset”) Review of Antidumping Duty Order on Cold-Rolled Steel Flat Products From Japan: Notice of Intent to Participate in Sunset Review,” dated June 14, 2021; United States Steel Corporation's Letter, “Five-Year (“Sunset”) Review of Antidumping Duty Order on Cold-Rolled Steel Flat Products from Japan: Notice of Intent to Participate,” dated June 16, 2021; Steel Dynamics Inc.'s Letter, “Notice of Intent to Participate in the First Five-Year Review of the Antidumping Duty Order on Cold-Rolled Steel Flat Products from Japan,” dated June 16, 2021; Nucor Corporation's Letter, “Certain Cold-Rolled Steel Flat Products from Japan: Notice of Intent to Participate in Sunset Review,” dated June 16, 2021; Cleveland-Cliffs Inc.'s Letter, “Five-Year (“Sunset”) Review of Antidumping Duty Order on Cold-Rolled Steel Flat Products From the Republic of Korea: Notice of Intent to Participate in Sunset Review,” dated June 14, 2021; United States Steel Corporation's Letter, “Five-Year (“Sunset”) Review of Antidumping and Countervailing Duty Orders on Cold-Rolled Steel Flat Products from South Korea: Notice of Intent to Participate,” dated June 16, 2021; California Steel Industries' and Steel Dynamics Inc.'s Letter, “Notice of Intent to Participate in the First Five-Year Review of the Antidumping Duty order on Cold-Rolled Steel Flat Products from the Republic of Korea,” dated June 16, 2021; Nucor Corporation's Letter, “Certain Cold-Rolled Steel Flat Products from the Republic of Korea: Notice of Intent to Participate in Sunset Review,” dated June 16, 2021; Cleveland-Cliffs Inc.'s Letter, “Five-Year (“Sunset”) Review of Antidumping Duty Order on Cold-Rolled Steel Flat Products From the United Kingdom: Notice of Intent to Participate in Sunset Review,” dated June 14, 2021; United States Steel Corporation's Letter, “Five-Year (“Sunset”) Review of Antidumping Duty Order on Cold-Rolled Steel Flat Products from the United Kingdom: Notice of Intent to Participate,” dated June 16, 2021; California Steel Industries' and Steel Dynamics Inc.'s Letter, “Notice of Intent to Participate in the First Five-Year Review of the Antidumping Duty order on Cold-Rolled Steel Flat Products from the United Kingdom,” dated June 16, 2021; Nucor Corporation's Letter, “Certain Cold-Rolled Steel Flat Products from the United Kingdom: Notice of Intent to Participate in Sunset Review,” dated June 16, 2021 (collectively, Notices of Intent to Participate).

⁶ See Substantive Responses.

⁷ See Commerce's Letter, “Sunset Reviews Initiated on June 1, 2021,” dated July 22, 2021.

In accordance with section 751(c)(3)(B) of the Act and 19 CFR 351.218(e)(1)(ii)(C)(2), Commerce conducted expedited, i.e., 120-day, sunset reviews of the Orders.

Scope of the Orders: Brazil, India, Korea, the United Kingdom, and China

The products covered by the orders on cold-rolled steel from Brazil, India, Korea, the United Kingdom, and China are currently classified in the Harmonized Tariff Schedule of the United States (HTSUS) under subheadings: 7209.15.0000, 7209.16.0030, 7209.16.0060, 7209.16.0070, 7209.16.0091, 7209.17.0030, 7209.17.0060, 7209.17.0070, 7209.17.0091, 7209.18.1530, 7209.18.1560, 7209.18.2510, 7209.18.2520, 7209.18.2580, 7209.18.6020, 7209.18.6090, 7209.25.0000, 7209.26.0000, 7209.27.0000, 7209.28.0000, 7209.90.0000, 7210.70.3000, 7211.23.1500, 7211.23.2000, 7211.23.3000, 7211.23.4500, 7211.23.6030, 7211.23.6060, 7211.23.6090, 7211.29.2030, 7211.29.2090, 7211.29.4500, 7211.29.6030, 7211.29.6080, 7211.90.0000, 7212.40.1000, 7212.40.5000, 7225.50.6000, 7225.50.8080, 7225.99.0090, 7226.92.5000, 7226.92.7050, and 7226.92.8050.

The products subject to the orders on cold-rolled steel from Brazil, India, Korea, the United Kingdom, and China may also enter under the following HTSUS subheadings: 7210.90.9000, 7212.50.0000, 7215.10.0010, 7215.10.0080, 7215.50.0016, 7215.50.0018, 7215.50.0020, 7215.50.0061, 7215.50.0063, 7215.50.0065, 7215.50.0090, 7215.90.5000, 7217.10.1000, 7217.10.2000, 7217.10.3000, 7217.10.7000, 7217.90.1000, 7217.90.5030, 7217.90.5060, 7217.90.5090, 7225.19.0000, 7226.19.1000, 7226.19.9000, 7226.99.0180, 7228.50.5015, 7228.50.5040, 7228.50.5070, 7228.60.8000, and 7229.90.1000. The HTSUS subheadings are provided for convenience and customs purposes. A full description of the scope of the orders on cold-rolled steel from Brazil, India, Korea, the United Kingdom, and China is contained in the Issues and Decision Memorandum.⁸ The written description is dispositive.

⁸ See Memorandum, “Issues and Decision Memorandum for the Expedited Sunset Reviews of the Antidumping Duty Orders on Cold-Rolled Steel Flat Products from Brazil, China, India, Japan, South Korea, and United Kingdom,” dated concurrently with, and hereby adopted by, this notice (Issues and Decision Memorandum).

Scope of the Order: Japan ⁹

⁹ As discussed in the accompanying Issues and Decision Memorandum, a result of the changed circumstances review, Commerce modified the scope of the order on cold-rolled steel from Japan to specify an exclusion on certain cold-rolled steel from Japan. See Certain Cold-Rolled Steel Flat Products From Japan: Final Results of Changed Circumstances Review, and Revocation of Antidumping Duty Order, in Part, 82 FR 12337 (March 2, 2017); see also Issues and Decision Memorandum.

The products covered by the order on cold-rolled steel from Japan are currently classified in the HTSUS under subheadings: 7209.15.0000, 7209.16.0030, 7209.16.0040, 7209.16.0045, 7209.16.0060, 7209.16.0070, 7209.16.0091, 7209.17.0030, 7209.17.0040, 7209.17.0045, 7209.17.0060, 7209.17.0070, 7209.17.0091, 7209.18.1530, 7209.18.1560, 7209.18.2510, 7209.18.2520, 7209.18.2580, 7209.18.6020, 7209.18.6090, 7209.25.0000, 7209.26.0000, 7209.27.0000, 7209.28.0000, 7209.90.0000, 7210.70.3000, 7211.23.1500, 7211.23.2000, 7211.23.3000, 7211.23.4500, 7211.23.6030, 7211.23.6060, 7211.23.6090, 7211.29.2030, 7211.29.2090, 7211.29.4500, 7211.29.6030, 7211.29.6080, 7211.90.0000, 7212.40.1000, 7212.40.5000, 7225.50.6000, 7225.50.8080, 7225.99.0090, 7226.92.5000, 7226.92.7050, and 7226.92.8050.

The products subject to the order on cold-rolled steel from Japan may also enter under the following HTSUS subheadings: 7210.90.9000, 7212.50.0000, 7215.10.0010, 7215.10.0080, 7215.50.0016, 7215.50.0018, 7215.50.0020, 7215.50.0061, 7215.50.0063, 7215.50.0065, 7215.50.0090, 7215.90.5000, 7217.10.1000, 7217.10.2000, 7217.10.3000, 7217.10.7000, 7217.90.1000, 7217.90.5030, 7217.90.5060, 7217.90.5090, 7225.19.0000, 7226.19.1000, 7226.19.9000, 7226.99.0180, 7228.50.5015, 7228.50.5040, 7228.50.5070, 7228.60.8000, and 7229.90.1000. The HTSUS subheadings are provided for convenience and customs purposes. A full description of the scope of the order on cold-rolled steel from Japan is contained in the Issues and Decision Memorandum.¹⁰ The written description is dispositive.

¹⁰ See Issues and Decision Memorandum.

Analysis of Comments Received

All issues raised in this review are addressed in the Issues and Decision Memorandum, including the likelihood of continuation or recurrence of dumping in the event of revocation and the magnitude of dumping margins likely to prevail if the order was revoked. Parties can find a complete discussion of all issues raised in this review and the corresponding recommendations in the Issues and Decision Memorandum, which is on file electronically via Enforcement and Compliance's Antidumping and Countervailing Duty Centralized Electronic Service System (ACCESS). ACCESS is available to registered users at http://access.trade.gov. In addition, a complete version of the Issues and Decision Memorandum can be found at http://enforcement.trade.gov/frn/index.html.

Final Results of Sunset Review

Pursuant to sections 751(c) and 752(c) of the Act, Commerce determines that revocation of the Orders would be likely to lead to continuation or recurrence of dumping and the magnitude of the margins of dumping likely to prevail would be weighted-average margins up to the following percentages:

Country | Weighted- average margin (percent)
Brazil | 35.43
China | 265.79
India | 7.60
Japan | 71.35
Korea | 28.42
United Kingdom | 25.17

Notification Regarding Administrative Protective Orders

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(c), and 777(i)(1) of the Act and 19 CFR 351.221(c)(5)(ii).

Dated: September 29, 2021.
Christian Marsh,
Acting Assistant Secretary for Enforcement and Compliance.

Appendix

List of Topics Discussed in the Issues and Decision Memorandum

I. Summary

II. Background

III. Scope of the Orders

IV. History of the Orders

V. Legal Framework

VI. Discussion of the Issues

VII. Final Results of Expedited Sunset Reviews

VIII. Recommendation

[FR Doc. 2021-21658 Filed 10-4-21; 8:45 am]

BILLING CODE 3510-DS-P